NUCLEAR REGULATORY COMMISSION

[Docket No. 70-27]

BWX Technologies, Inc.

AGENCY: Nuclear Regulatory Commission (NRC).

ACTION: Notice of receipt of request from BWX Technologies, Inc. (BWXT), to amend Special Nuclear Material License SNM-42 to approve Industrial Waste Landfill No. 1, Decommissioning Plan and Final Status Survey Plan. The NRC is providing a notice of an opportunity for a hearing.

SUMMARY: Notice is hereby given that the NRC has received, by letter dated June 11, 2002, a request from BWXT to amend its NRC Special Nuclear Material License SNM-42, to approve BWXT's Industrial Waste Landfill No. 1, Decommissioning Plan and Final Status Survey Plan (ADAMS Accession Number ML021690397). The NRC is providing a notice of an opportunity for a hearing.

FOR FURTHER INFORMATION CONTACT: Ms. Julie Olivier, Fuel Cycle Facilities Branch, Division of Fuel Cycle Safety and Safeguards, Office of Nuclear Material Safety and Safeguards, U.S. Nuclear Regulatory Commission, Mail Stop T-8A33, Washington, DC 20555. Telephone (301) 415-8098.

SUPPLEMENTARY INFORMATION: By its submittal dated June 11, 2002, BWXT requested that the NRC amend Special Nuclear Materials License SNM-42 to approve BWXT's Industrial Waste Landfill No. 1, Decommissioning Plan and Final Status Survey Plan.

From 1972 until 1990, BWXT operated two industrial waste landfills at its Nuclear Products Division site. The first landfill was used from 1972 until 1976. The second landfill was used in two sections. The first section operated from 1977 until 1988; the second section operated from 1989 until 1990. Use of the landfills was discontinued after June 1990, because the filter cake material was found to contain low levels of radioactive contamination.

Both landfills were operated in a relatively similar manner. Filter cake material was placed in a series of parallel trenches. Each trench was excavated; sludge material was transported to the trench at one end and dumped by roto-hopper in piles until this area within the trench was full. Successive piles of filter cake material placed in the trenches were mounded above ground level. The volume of the filter cake placed in the trenches was reduced by approximately 30% after allowing it to dry, resulting in the mound above ground settling below grade. Excavated material from the trench was used as a cover of top soil approximately two feet in depth. The surface was then allowed to vegetate naturally.

The Decommissioning Plan and Final Status Survey Plan for Industrial Waste Landfill No. 1 were developed in accordance with 10 CFR 70.38 “Expiration and Termination of Licenses and Decommissioning of Sites and Separate Buildings or Outdoor Areas” and in response to a NRC letter dated February 26, 2001. Regulatory Guide 3.65, “Standard Format and Content of Decommissioning Plans for Licensees Under 10 CFR parts 30, 40, and 70” (NRC 1989), and draft NUREG/CR5849, “Manual for Conducting Radiological Surveys in Support of License Termination” (NRC 1992) were used in the development of the Decommissioning Plan and Final Status Survey Plan for Industrial Waste Landfill No. 1. BWXT's objective is to:

1. Demonstrate through characterization of the landfill, or portions thereof, that the average contamination levels meet the criteria of Option 1 of NRC's 1981 Branch Technical Position. (See 46 FR 52061, October 23, 1981).

OR

2. Demonstrate through characterization of the landfill that the average contamination levels, the characteristics of the material buried, and the site characteristics, meet the criteria of Option 2 to NRC's 1981 Branch Technical position. For those areas decommissioned under Option 2, capping of the landfill will be necessary to assure the minimum burial depth.

BWXT's June 11, 2002, request will be reviewed by the NRC staff using NUREG-1520, “Standard Review Plan for the Review of a License Application for a Fuel Cycle Facility,” and NUREG-1748, “Environmental Review Guidance for Licensing Actions Associated with NMSS Programs.”

The amendment application is available for public inspection and copying at the NRC Public Document Room, U.S. Nuclear Regulatory Commission Headquarters, Room 0-1F21, 11555 Rockville Pike, Rockville, MD 20852.

Notice of Opportunity for Hearing

The NRC hereby provides notice of an opportunity for a hearing on the license amendment under the provisions of 10 CFR part 2, subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary either:

(1) By delivery to the Docketing and Service Branch of the Office of the Secretary at One White Flint North, 11555 Rockville Pike, Rockville, MD 20852; or

(2) By mail or telegram addressed to the Secretary, U.S. Nuclear Regulatory Commission, Washington, DC 20555, Attention: Docketing and Service Branch. Because of continuing disruptions in the delivery of mail to United States Government offices, it is requested that requests for hearing be also transmitted to the Secretary of the Commission either by means of facsimile transmission to 301-415-1101, or by e-mail to hearingdocket@nrc.gov.

In accordance with 10 CFR 2.1205(f), each request for a hearing must also be served, by delivering it personally or by mail, to:

(1) The licensee, BWX Technologies, Inc., Nuclear Products Division, PO Box 785, Lynchburg, VA 24505-0785, Attention Mr. Carl Yates, Licensing Officer, and

(2) The NRC staff, by delivery to the Office of the General Counsel, U.S. Nuclear Regulatory Commission, One White Flint North, 11555 Rockville Pike, Rockville, MD 20852, or by mail addressed to the Office of the General Counsel, U.S. Nuclear Regulatory Commission, Washington, DC 20555. Because of continuing disruptions in the delivery of mail to United States Government offices, it is requested that requests for hearing be transmitted to the Office of the General Counsel either by means of facsimile transmission to 301-415-3725, or by e-mail to OGCMailCenter@nrc.gov.

In addition to meeting other applicable requirements of 10 CFR part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to Michael Lesar, Chief, Rules Review and Directives Branch, Division of Administration Services, Office of Administration, U.S. Nuclear Regulatory Commission, Washington DC 20555.

Dated in Rockville, Maryland, this 17th day of October, 2002.
For the U.S. Nuclear Regulatory Commission.
Eric J. Leeds,
Deputy Director, Division of Fuel Cycle Safety and Safeguards, Office of Nuclear Material Safety and Safeguards.

[FR Doc. 02-26983 Filed 10-22-02; 8:45 am]

BILLING CODE 7590-01-P